DEPARTMENT OF HEALTH AND HUMAN SERVICES

Agency for Healthcare Research and Quality

Nominations of Topics for Evidence-based Practice Centers

AGENCY: Agency for Healthcare Research and Quality (AHRQ), DHHS.

ACTION: Nominations of topics for evidence reports and technology assessments.

SUMMARY: AHRQ invites nominations of topics for evidence reports and technology assessments relating to the prevention, diagnosis, treatment and management of common diseases and clinical conditions, as well as topics relating to the organization and financing of health care. Previous evidence reports can be found at http://www.ahrq.gov/clinic.epcix.htm.

DATES: Topic nominations should be submitted by January 31, 2005, in order to be considered for fiscal year 2005. In addition to timely responses to this request for nominations, AHRQ also accepts topic nominations on an ongoing basis for consideration for future years. AHRQ will not reply to individual responses, but will consider all nominations during the selection process. Those who submitted topics that were selected will be notified by AHRQ.

ADDRESSES: Topics nominations should be submitted to Kenneth Fink, MD, MGA, MPH, Director, Evidence-based Practice Centers (EPC) Program, Center for Outcomes and Evidence, AHRQ, 540 Gaither Road, Rockville, MD 20850. Electronic submissions to epc@ahrq.gov. are preferred.

FOR FURTHER INFORMATION CONTACT: Kenneth Fink, MD, MGA, MPH, Center for Outcomes and Evidence, AHRQ, 540 Gaither Road, Rockville, MD 20850; Phone: (301) 427-1617; Fax: (301 427-1640; E-mail: kfink@ahrq.gov.

Arrangement for Public Inspection: All nominations will be available for public inspections at the Center for Outcomes and Evidence, telephone (301) 427-1600, weekdays between 8:30 a.m. and 5 p.m. (eastern time).

SUPPLEMENTARY INFORMATION:

Background

Under Title IX of the Public Heath Service Act (42 U.S.C. 299-299c-7) as amended by Public Law 106-129 (1999), AHRQ is charged with enhancing the quality, appropriateness, and effectiveness of health care services and access to such services. AHRQ accomplishes these goals through scientific research and through the promotion of improvements in clinical practice and health systems practices, including the prevention of diseases and other health conditions.

2. Purpose and Overview

The purpose of this notice is to solicit topic nominations for evidence reports and technology assessments. Professional societies, health systems, employers, insurers, providers, and consumer groups are encouraged to nominate topics and then collaborate with AHRQ, e.g., with suggestions for, and comments, on, draft assessments, as it carries out its mission to promote the practice of evidence-based health care. In this endeavor, AHRQ serves as a science partner with private-sector and public organizations in their efforts to improve the quality, effectiveness, and appropriateness of health care delivery in the United States, and to expedite the translation of evidence-based research findings into improved health care services. To undertake scientific analyses and evidence syntheses on topics of high-priority to its public and private health care partners and the health care community generally, AHRQ awards task order contracts to its Evidence-based Practice Centers (EPCs).

The EPCs produce science syntheses—evidence reports and technology assessments—that provide to public and private organizations the foundation for developing and implementing their own practice guidelines, performance measures, educational programs, and other strategies to improve the quality of health care and decisionmaking related to the effectiveness and appropriateness of specific health care technologies and services. The evidence reports and technology assessments also may be used to inform coverage and reimbursement policies. As the body of scientific studies related to organization and financing of health care grows, systematic review and analysis of these studies, in addition to clinical and behavioral research, can provide health system organizations with a scientific foundation for developing or improving system-wide policies and practices.

Each year, the AHRQ supports approximately nine evidence reports in collaboration with non-Federal partners, including national associations, medical societies, health plans, and others. Nominations of topics from non-Federal partners are solicited annually through a notice in the Federal Register. However, topic nominations are accepted on an ongoing basis. All nominations received in the previous year as well as topics that were previously submitted but not selected are considered for the upcoming year.

Reports and assessments usually require about 12 months for completion. AHRQ widely disseminates the EPC evidence reports and technology assessments, both electronically and in print. The EPC evidence reports and technology assessments do not make clinical recommendations or recommendations regarding reimbursement and coverage policies.

3. Role/Responsibilities of Partners

Nominators of topics selected for development of an EPC evidence report or technology assessment assume the role of partners of AHRQ and the EPCs. Partners have defined roles and responsibilities. AHRQ places high value on these cooperative relationships, and takes into consideration a partner organization's past performance of these responsibilities, when considering whether to accept additional topics nominated by that organization in subsequent years. Specifically, partners are expected to serve as resources to EPCs as they develop the evidence reports and technology assessments related to the nominated topic; serve as external peer reviewers of relevant draft evidence reports and assessments; and commit to timely translation of the EPC reports and assessments into their own quality improvement tools (e.g., clinical practice guidelines, performance measures), educational programs, and reimbursement policies; and dissemination of these derivative products to their membership as appropriate. AHRQ also is interested in members' use of these derivative products and the products' impact on enhanced health care. AHRQ looks to its partners to provide the use and impact data on products that are based on EPC evidence reports and technology assessments.

4. Topics for Reports

The EPCs prepare evidence reports and technology assessments on topics for which there is significant demand for information by health care providers, insurers, purchasers, health-related societies, and patient advocacy organizations. Such topics may include the prevention, diagnosis and/or treatment of particular clinical and behavioral conditions, use of alternative or complementary therapies, and appropriate use of commonly provided services, procedures, or technologies. Topics also may include issues related to the organization and financing of care such as risk adjustment methodologies, market performance measures, provider payment mechanisms, and insurance purchasing tools, as well as measurement or evaluation of provider integration of new scientific findings regarding health care and delivery innovations. Previous evidence reports can be found at http://www.ahrq.gov/clinic/epcix.htm.

AHRQ is very interested in receiving topic nominations from professional societies and organizations comprised of members of minority populations, as well as topic nominations that have significant impact on AHRQ priority populations including low income groups, minority groups, women, children, the elderly, and individuals with special health care needs, such as those with disabilities, those who need chronic care or end-of-life health care, or those who live in inner-city and rural areas.

5. Topic Nomination

Nominations of topics for AHRQ evidence reports and technology assessments should focus on specific aspects of prevention, diagnosis, treatment and/or management of a particular condition; an individual procedure, treatment, or technology; or a specific health care organizational or financial strategy. The processes that AHRQ employs to select clinical and behavioral topics as well as organization and financing topics nominated by the EPCs is described below. For each topic, the nominating organization must provide the following information:

A. Rationale and supporting evidence on the relevance and importance of the topic;

B. Three to five focused questions on the topic to be addressed;

C. Plans for rapid translation of the evidence reports and technology assessments into clinical guidelines, performance measures, educational programs, or other strategies for strengthening the quality of health care services, or plans to inform development of reimbursement or coverage policies;

D. Plans for use and/or dissemination of these derivative products, e.g., to membership if appropriate; and,

E. Process by which the nominating organization will measure the use of these products and impact of such use.

6. Topic Selection

Factors that will be considered in the selection of topics for AHRQ evidence report and technology assessment topics include:

A. Burden of disease including severity, incidence and/or prevalence or relevance of organizational/financial topic to the general population and/or AHRQ's priority populations;

B. Controvery or uncertainty about the topic and availability of scientific data to support the systematic review and analysis of the topic;

C. Total costs associated with a condition, procedure, treatment, technology, or organization/financial topic taking into account the number of people needing such care, the unit cost of care, and related or indirect costs;

D. Potential for achieving clinically significant variations in the prevention, diagnosis, treatment, or management of a disease or condition; or in changing the use of a procedure or technology; informing and improving patient and/or provider decisionmaking; improving health outcomes; and/or reducing costs;

E. Relevance to the needs of the Medicare, Medicaid and other Federal health care programs; and,

F. Nominating organization's plan to disseminate derivative products, measure use and impact of these products on outcomes, or otherwise incorporate the report into its managerial or policy decisionmaking.

7. Submission of Nominations

Topics nominations should be submitted to Kenneth Fink, MD, MGA, MPH, Director, Evidence-based Practice Centers (EPC) Program, Center for Outcomes and Evidence, AHRQ, 540 Gaither Road, Rockville, MD 20850. Electronic submissions to epc@ahrq.gov are preferred.

Dated: November 30, 2004.
Carolyn M. Clancy,
Director.

[FR Doc. 04-27058 Filed12-8-04; 8:45 am]

BILLING CODE 4160-90-M